DEPARTMENT OF TRANSPORTATION

Pipeline and Hazardous Materials Safety Administration

Notice of Application for Special Permits

AGENCY: Office of Hazardous Materials Safety, Pipeline and Hazardous Materials Safety Administration (PHMSA), DOT.

ACTION: List of applications for special permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before February 2, 2015.

Address Comments to: Record Center, Pipeline and Hazardous Materials, Safety Administration, U.S. Department of Transportation, Washington, DC 20590.

Comments should refer to the application number and be submitted in triplicate. If confirmation of receipt of comments is desired, include a self-addressed stamped postcard showing the special permit number.

For Further Information: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on December 8, 2014.
Donald Burger,
Chief, General Approvals and Permits.

Application No. | Docket No. | Applicant | Regulation(s) affected | Nature of special permits thereof
NEW SPECIAL PERMITS
16316-N |  | Green Auto Products International, Inc., Orlando, FL | 49 CFR 171.2(k), 172.202(a)(5)(iii)(b), part 172, subpart H | To authorize the transportation in commerce of certain used DOT 3AL cylinders that contain oxygen, but not necessarily in an amount qualifying as hazardous material. (modes 1, 2, 3)
16318-N |  | Technical Chemical Company, Cleburne, TX | 49 CFR 173.304(d), 173.306(a)(3) | To authorize the manufacture, mark, sale and use of a non-DOT specification packaging conforming in part with specification DOT 2Q. (modes 1, 2, 3, 4, 5)
16320-N |  | Digital Wave Corporation, Centennial, CO | 49 CFR 180.205(g) | To authorize the extension of the service life of certain DOT-CFFC cylinders which are subjected to certain requalification and operational controls. (modes 1, 2, 3, 4, 5)
16321-N |  | China Oilfield Services Limited Beijing | 49 CFR 173.201, 173.301(f), 173.302, 173.304a | To authorize the manufacture, mark, sale, and use of certain non-DOT specification cylinders containing certain Division 2.1, 2.2, and Class 3 materials used for oil well sampling. (modes 1, 2, 3, 4)
16323-N |  | Fibre Drum Sales, Inc., Blue Island, IL | 49 CFR 172.203(a), 172.302(c), 180.352 | To authorize installation of a tested inner receptacle of a composite IBC without subjecting the inner receptacle to a leakproofness test after installation. (modes 1, 2, 3)
16331-N |  | Airgas Specialty Products, Inc., Lawrenceville, GA | 49 CFR 173.301(f), 173.301(g) | To authorize the transportation in commerce of DOT specification cylinders, UN cylinders, tube trailers, and multi-element gas containers containing hydrogen chloride without pressure relief devices. (modes 1, 2, 3)
16332-N |  | Nalco Company, Naperville, IL | 49 CFR 172.302(c), 178.705(c)(1) | To authorize the transportation in commerce of certain existing UN 31A IBCs manufactured of stainless steel and modified with a lid manufactured of Linear Medium Density Polyethylene. (modes 1, 2, 3)
16334-N |  | ICL Performance Products LP, St. Louis, MO | 49 CFR 178.255-11, 178.274(h)(1) | To authorize the transportation in commerce of an ISO tank with a damaged frame. (mode 1)
16337-N |  | Volkswagen Group of America (VWGoA), Herndon, VA | 49 CFR 172.102(c)(2), Special Provision A54, ICAO TI Special Provision A99 | To authorize the transportation in commerce of certain lithium ion batteries each with a net weight greater than 35 kg by cargo aircraft only. (mode 4)
16338-N |  | Orion Polyurethanes, sp. z.o.o. S.K.A. Dzierzoniow | 49 CFR 173.306(a)(3)(v) | To authorize the transportation in commerce of Division 2.1 hazardous materials in certain DOT Specification 2Q non-refillable inside containers which have been tested by an alternative method in lieu of the hot water bath test. (modes 1, 2, 3, 4, 5)
16346-N |  | FIBA Technologies, Inc., Littleton, MA | 49 CFR 173.301(a)(1), 178.71 | To authorize the manufacture, mark, sale and use of Type 2, hoop-wrapped, refillable, composite reinforced UN pressure receptacles. (modes 1, 2, 3)

[FR Doc. 2014-30538 Filed 12-31-14; 8:45 am]

BILLING CODE 4909-60-M